NATIONAL SCIENCE FOUNDATION

Request for Information: Interdisciplinary Frontiers of Understanding the Brain

AGENCY: National Science Foundation.

ACTION: Request for information.

SUMMARY: The National Science Foundation seeks public input on new scientific opportunities at the interface of neuroscience and other science and engineering disciplines.

DATES: Written comments must be submitted no later than March 31, 2021.

ADDRESSES: Submit comments via web form at https://www.surveymonkey.com/r/LQBPS6S. Email comments to brain-frontiers@nsf.gov. Send written submissions to Dr. Edda Thiels, Division of Integrative and Organismal Systems, National Science Foundation, 2415 Eisenhower Avenue, Alexandria, VA 22314.

FOR FURTHER INFORMATION CONTACT: Dr. Edda Thiels at brain-frontiers@nsf.gov or (703) 292-8167.

SUPPLEMENTARY INFORMATION: Exciting new opportunities at the interface of neuroscience and other science and engineering disciplines, catalyzed by transformative new discoveries and technologies, are poised to reshape brain research and its applications. Advances at these interdisciplinary frontiers depend on dialogue across many areas of scholarship, including behavioral, biological, cognitive, computing, educational, engineering, mathematical, and physical sciences research, as well as fields and subfields that have not traditionally been linked to neuroscience. The National Science Foundation seeks community input that illuminates these interdisciplinary opportunities, from theory to applications, and points to how they might best be realized.

Further information and instructions to submitters may be found at https://www.nsf.gov/publications/pub_summ.jsp?ods_key=nsf21031 (NSF 21-31).

(Authority: 42 U.S.C. 1861.)

Dated: December 11, 2020.
Suzanne H. Plimpton,
Reports Clearance Officer, National Science Foundation.

[FR Doc. 2020-27671 Filed 12-15-20; 8:45 am]

BILLING CODE 7555-01-P